DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker local permits are canceled without prejudice.

Name | Permit No. | Issuing port
Pro-Log Services, Inc | 5301-010 | Houston.
Ernesto Bustamante Dba Associate Brokerage | 26-03-AQG | Nogales.
Alba F. Ibarrola | 26-02-AND | Nogales.
Capin Brokerage Inc. Dba Capin Vyborny | 26-016 | Nogales.
Robert E. Finley | 19-03-H28 | Mobile.
Air Express International | 3024 | San Francisco.
Burlington Air Express | 6963-P | San Francisco.
Columbia Shipping Inc. (SFO) | 12259-P | San Francisco.
Pacific Freight Group International | A-827 | San Francisco.
John L. Brun | 4346 | San Francisco.
Darrel J. Sekin & Co | 6375 | San Francisco.
Fracht FWO Inc | 11887-P | San Francisco.
“K” Air Brokerage, Inc | 9610-P | San Francisco.
Kinetsu Intermodal (USA) | 9849 (SF) | San Francisco.
George W. Martin | 10854 | San Francisco.
SBA Consolidators, Inc | 6622 | San Francisco.
Dateline Forwarding Services, Inc |  | San Francisco.
Migeul Ramon Padilla Dba MR Padilla Co |  | San Francisco.
Sherri Linden |  | San Francisco.
Dale Melford Aldeous Zerda |  | San Francisco.
Howard Harty, Inc |  | San Francisco.
West Coast Customs Brokers (Los Angeles) |  | San Francisco.
Allan T. Low |  | San Francisco.
Diamond International |  | San Francisco.
Frank Cadenhead |  | San Francisco.
MSAS Cargo International Inc |  | San Francisco.
Richard G. Dumont & Associates |  | San Francisco.
SH Brogan Consulting Inc |  | San Francisco.
Surface Freight Corp |  | San Francisco.
Vital Int'l Freight Services. Inc |  | San Francisco.

Dated: June 1, 2004.
Jayson P. Ahern,
Assistant Commissioner, Office of Field Operations.

[FR Doc. 04-13126 Filed 6-9-04; 8:45 am]

BILLING CODE 4820-02-M